DEPARTMENT OF HEALTH AND HUMAN SERVICES

Centers for Disease Control and Prevention

[30Day-22-0255]

Agency Forms Undergoing Paperwork Reduction Act Review

In accordance with the Paperwork Reduction Act of 1995, the Centers for Disease Control and Prevention (CDC) has submitted the information collection request titled “Resources and Services Database of the National Prevention Information Network (NPIN)” to the Office of Management and Budget (OMB) for review and approval. CDC previously published a “Proposed Data Collection Submitted for Public Comment and Recommendations” notice on May 13, 2022 to obtain comments from the public and affected agencies. No comments related to the previous notice were received. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Resources and Services Database of the National Prevention Information Network (NPIN) (OMB Control No. 0920-0255, Exp. 01/31/2023)—Revision—National Center for HIV, Viral Hepatitis, Sexually Transmitted Diseases, and Tuberculosis Prevention (NCHHSTP), Centers for Disease Control and Prevention (CDC).

Background and Brief Description

NCHHSTP has the primary responsibility within the CDC and the U.S. Public Health Service for the prevention and control of HIV infection, viral hepatitis, sexually transmitted diseases (STDs), and tuberculosis (TB), as well as for community-based HIV prevention activities, syphilis, and TB elimination programs. NCHHSTP established the National Prevention Information Network (NPIN) to serve the public and to facilitate partnerships and coordination among organizations that provide prevention, education, and referral services relevant to its mission.

NPIN serves as the most comprehensive U.S. reference, referral, and distribution service for information on HIV/AIDS, viral hepatitis, STDs, and TB, supporting NCHHSTP's mission to link Americans to prevention, education, and care services. The NPIN Resources and Services Database contains entries on approximately 10,700 organizations. The American public can access the NPIN resources and Services database through the NPIN websites. More than 1,600,000 unique visitors and more than 3,000,000 page views are recorded annually.

CDC requests OMB approval to continue information collection for the NPIN, with minor changes. New information will be added about self-testing services and associated fees. If NPIN does not continue this information collection and verification project, the potential number of resource listings will be significantly reduced, and the accuracy and currency of the existing records will be greatly diminished.

Information will be collected via telephone interview or online form. Information collection for a new resource will be collected using the NPIN Initial Questionnaire Telephone Script, which serves as a guide for the telephone call with NPIN staff. Organizations with access to the internet will be given the option to complete and submit an electronic version of the questionnaire by visiting the NPIN website. The same information is in both modes of data collection, but the format of the NPIN online questionnaire was modified to decrease free text, which improves the time needed to complete the form. To accomplish CDC's goal of continuing efforts to maintain an up-to-date, comprehensive database, NPIN plans each year to add up to 800 newly identified organizations and verify those organizations currently described in the NPIN Resources and Services Database each year. This data collection uses no inferential statistical methods. The data collected is in textual or anecdotal format and will be used for information purposes.

After new organizations are entered into NPIN, they are asked to participate in an annual verification and update process to ensure the ongoing accuracy, timeliness, and usefulness of information disseminated through NPIN. The estimated burden for participating in the verification process is six minutes. Verification may be conducted by telephone interview or email.

CDC requests OMB approval for three years. Participation is voluntary and there are no costs to respondents other than their time. The total estimated annualized burden is 1,164 hours.

Estimated Annualized Burden Hours
Type of respondents | Form name | Number of respondents | Number of responses per respondent | Average burden per response (in hours)
Organizations that provide prevention, education, testing, and healthcare services relating to HIV/AIDS, viral hepatitis, STD, and TB | NPIN Initial Questionnaire Telephone Script | 800 | 1 | 7/60
Organizations that provide prevention, education, testing, and healthcare services relating to HIV/AIDS, viral hepatitis, STD, and TB | NPIN Telephone Verification | 9,095 | 1 | 6/60
Organizations that provide prevention, education, testing, and healthcare services relating to HIV/AIDS, viral hepatitis, STD, and TB | NPIN Online Questionnaire | 1,605 | 1 | 6/60

Jeffery M. Zirger,
Lead, Information Collection Review Office, Office of Scientific Integrity, Office of Science, Office of the Director, Centers for Disease Control and Prevention.

[FR Doc. 2022-20600 Filed 9-22-22; 8:45 am]

BILLING CODE 4163-18-P